CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed use of the AmeriCorps NCCC Medical/Mental Health Information Form. An individual must have the physical and mental capacity required to perform the essential functions of the AmeriCorps NCCC member position, with or without reasonable accommodation, for which he or she is otherwise eligible.

Copies of the information collection request can be obtained by contacting the office listed in the Addresses section of this Notice.

DATES: Written comments must be submitted to the individual and office listed in the ADDRESSES section by July 18, 2016.

ADDRESSES: You may submit comments, identified by the title of the information collection activity, by any of the following methods:

(1) By mail sent to: Corporation for National and Community Service, AmeriCorps NCCC; Attention Tara Lind-Zajac, Lead Medical Nurse, 3237-Q; 250 E Street SW., Washington, DC 20525.

(2) By hand delivery or by courier to the CNCS mailroom at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Tara Lind-Zajac, 202-360-8082, or by email at TLindZajac@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

An individual must have the physical and mental capacity required to perform the essential functions of the AmeriCorps lNCCC member position, with or without reasonable accommodation, for which he or she is otherwise eligible. Individuals applying to the AmeriCorps NCCC program provide the information collected on this form in order to be cleared to participate in the program.

Current Action

This is a new information collection request. The Medical/Mental Health Information Form is completed at the time individuals complete the AmeriCorps NCCC program application. This allows individuals to submit a “complete” application to AmeriCorps NCCC, allowing a shortened and simplified application/review/clearance process. The Medical/Mental Health Information Form is not reviewed until after an applicant receives a conditional invitation to participate in the AmeriCorps NCCC program. Forms are submitted via pre-addressed, tracked, UPS envelopes included with the mailings in which applicants receive the blank forms.

Type of Review: New.

Agency: Corporation for National and Community Service.

Title: AmeriCorps NCCC Medical/Mental Health Information Form.

OMB Number: None.

Agency Number: None.

Affected Public: Applicants to AmeriCorps NCCC.

Total Respondents: Approximately 2500/year.

Frequency: Once per completed NCCC application.

Average Time per Response: Averages 15 minutes.

Estimated Total Burden Hours: Approximately 625 hours.

Total Burden Cost (capital/startup): None.

Total Burden Cost (operating/maintenance): None.

Comments submitted in response to this notice will be summarized and/or included in the request for Office of Management and Budget approval of the information collection request; they will also become a matter of public record.

Dated: May 11, 2016.
Charles L. Davenport, Jr.,
Director of Recruitment, Selection and Placement, NCCC.

[FR Doc. 2016-11734 Filed 5-17-16; 8:45 am]

BILLING CODE 6050-28-P